DEPARTMENT OF THE INTERIOR

Bureau of Indian Affairs

Paskenta Band of Nomlaki Indians Liquor Control Ordinance

AGENCY: Bureau of Indian Affairs, Interior.

ACTION: Notice.

SUMMARY: This notice publishes the Paskenta Band of Nomlaki Indians Liquor Control Ordinance. The Ordinance regulates the control of, the possession of, and the sale of liquor on the Paskenta Indian trust lands, and is in conformity with the laws of the State of California, where applicable and necessary. Although the Ordinance was adopted on April 19, 2000, it does not become effective until published in the Federal Register because the failure to comply with the ordinance may result in criminal charges.

DATES: This Ordinance is effective on March 26, 2001.

FOR FURTHER INFORMATION CONTACT: Kaye Armstrong, Office of Tribal Services, 1849 C Street, NW., MS 4631-MIB, Washington, DC 20240-4001; telephone (202) 208-4400.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Paskenta Band of Nomlaki Indians Liquor Control Ordinance No. 2000-419B, as authorized by Resolution No. 4-19-00, was duly adopted by the Paskenta Band Tribal Council on April 19, 2000. The Paskenta Band, in furtherance of its economic and social goals, has taken positive steps to regulate retail sales of alcohol and use revenues to combat alcohol abuse and its debilitating effects among individuals and family members within the Paskenta Band of Nomlaki Indians.

This notice is being published in accordance with the authority delegated by the Secretary of the Interior to the Assistant Secretary—Indian Affairs by 209 Departmental Manual 8.1.

I certify that by Resolution No. 4-19-00, the Paskenta Band of Nomlaki Indians Liquor Control Ordinance No. 2000-419B was duly adopted by the Paskenta Band Tribal Council on April 19, 2000.

Dated: March 19, 2001.
James H. McDivitt,
Deputy Assistant Secretary—Indian Affairs (Management).

The Paskenta Band of Nomlaki Indians Liquor Control Ordinance No. 2000-419B reads as follows:

Liquor Control Ordinance 2000-419B

Article 1. Name. This statute shall be known as the Paskenta Liquor Control Ordinance.

Article 2. Authority. This statute is enacted pursuant to the Act of August 15, 1953, (Public Law 83-277, 67 Stat. 588, 18 U.S.C. § 1161) and Article VI of the Constitution of the Tribe.

Article 3. Purpose. The purpose of this statute is to regulate and control the possession and sale of liquor on the Paskenta Nomlaki Indian Reservation, and to permit alcohol sales by tribally owned and operated enterprises, and at tribally approved special events, for the purpose of the economic development of the Tribe. The enactment of a tribal statute governing liquor possession and sales on the Paskenta Nomlaki Indian Reservation will increase the ability of tribal government to control Reservation liquor distribution and possession, and will provide an important source of revenue for the continued operation and strengthening of the tribal government, the economic viability of tribal enterprises, and the delivery of tribal government services. This Liquor Control Ordinance is in conformity with the laws of the State of California as required by 18 U.S.C. § 1161, and with all applicable federal laws.

Article 4. Effective Date. This statute shall be effective as of the date of its publication in the Federal Register.

Article 5. Possession of Alcohol. The introduction or possession of alcoholic beverages shall be lawful within the exterior boundaries of the Paskenta Nomlaki Indian Reservation; provided that such introduction or possession is in conformity with the laws of the State of California.

Article 6. Sales of Alcohol.

(a) The sale of alcoholic beverages by business enterprises owned by and subject to the control of the Tribe shall be lawful within the exterior boundaries of the Paskenta Nomlaki Indian Reservation; provided that such sales are in conformity with the laws of the State of California.

(b) The sale of alcoholic beverages by the drink at special events authorized by the Tribe shall be lawful within the exterior boundaries of the Paskenta Nomlaki Indian Reservation; provided that such sales are in conformity with the laws of the State of California and with prior approval by the Tribe.

Article 7. Age Limits. The drinking age within the Paskenta Nomlaki Indian Reservation shall be the same as that of the State of California, which is currently 21 years. No person under the age 21 years shall purchase, possess or consume any alcoholic beverage. At such time, if any, as California business and Profession Code § 25658, which sets the drinking age for the State of California, is repealed or amended to raise or lower the drinking age within California, this Article shall automatically become null and void, and the Tribal Council shall be empowered to amend this Article to match the age limit imposed by state law, such amendment to become effective upon publication in the Federal Register by the Secretary of the Interior.

Article 8. Civil Penalties. The Tribe, through its Tribal Council and duly authorized security personnel, shall have the authority to enforce this statute by confiscating any liquor sold, possessed or introduced in violation hereof. The Tribal Council shall be empowered to sell such confiscated liquor for the benefit of the Tribe and to develop and approve such regulation as may become necessary for enforcement of this ordinance.

Article 9. Prior Inconsistent Enactments. Any prior tribal laws, resolutions, or statutes, which are inconsistent with this statute, are hereby repealed to the extent they are inconsistent with this statute.

Article 10. Sovereign Immunity. Nothing contained in this statute is intended to, nor does in any way, limit, alter, restrict, or waive the sovereign immunity of the Tribe or any of its agencies from unconsented suit or action of any kind.

Article 11. Severability. If any provision of this statute is found by any agency or court of competent jurisdiction to be unenforceable, the remaining provisions shall be unaffected thereby.

Article 12. Amendment. This statute may be amended by majority vote of the Tribal Council of the Tribe at a duly noticed Tribal Council meeting, such amendment to become effective upon publication in the Federal Register by the Secretary of the Interior.

[FR Doc. 01-7357 Filed 3-23-01; 8:45 am]

BILLING CODE 4310-02-M